ENVIRONMENTAL PROTECTION AGENCY

[EPA-HQ-OAR-2007-1196; FRL-9942-04-OAR]

Recent Postings of Broadly Applicable Alternative Test Methods

AGENCY: Environmental Protection Agency (EPA).

ACTION: Notice of availability.

SUMMARY: This notice announces the broadly applicable alternative test method approval decisions the Environmental Protection Agency (EPA) has made under and in support of New Source Performance Standards (NSPS) and the National Emission Standards for Hazardous Air Pollutants (NESHAP).

FOR FURTHER INFORMATION CONTACT: An electronic copy of each alternative test method approval document is available at www.epa.gov/ttn/emc/approalt.html. For questions about this notice, contact Ms. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval document(s).

SUPPLEMENTARY INFORMATION:

I. General Information

A. Does this notice apply to me?

This notice will be of interest to entities regulated under 40 Code of Federal Regulations (CFR) parts 60, 61, and 63, state, local, and tribal agencies, and the EPA Regional offices responsible for implementation and enforcement of regulations under 40 CFR parts 60, 61, and 63.

B. How can I get copies of this information?

You may access copies of the broadly applicable alternative test method approval documents at www.epa.gov/ttn/emc/approalt.html.

II. Background

Broadly applicable alternative test method approval decisions made by the EPA in 2015 under the NSPS, 40 CFR part 60 and the NESHAP, 40 CFR parts 61 and 63 are identified in this notice (see Table 1). Source owners and operators may voluntarily use these broadly applicable alternative test methods subject to their specific applicability in lieu of otherwise specified reference test methods. Use of these broadly applicable alternative test methods does not change the applicable emission standards.

As explained in a previous Federal Register notice published at 72 FR 4257 (January 30, 2007) and located at www.epa.gov/ttn/emc/approalt.html, the EPA Administrator has the authority to approve the use of alternative test methods to comply with requirements under 40 CFR parts 60, 61, and 63. This authority is found in sections 60.8(b)(3), 61.13(h)(1)(ii), and 63.7(e)(2)(ii). A similar authority is granted in 40 CFR part 65 under section 65.158(a)(2). In the past, we have performed thorough technical reviews of numerous source-specific requests for alternatives and modifications to test methods and procedures. Based on these reviews, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate circumstances. Source owners or operators should review the specific broadly applicable alternative method approval decision at www.epa.gov/ttn/emc/approalt.html before electing to employ it. As per section 63.7(f)(5), by electing to use an alternative method for 40 CFR part 63 standards, the source owner or operator must continue to use the alternative method until approved otherwise.

The criteria for approval and procedures for submission and review of broadly applicable alternative test methods are outlined at 72 FR 4257 (January 30, 2007). We will continue to announce approvals for broadly applicable alternative test methods at www.epa.gov/ttn/emc/approalt.html and publish a notice annually that summarizes approvals for broadly applicable alternative test methods.

This notice comprises a summary of five such approval documents posted to our Technology Transfer Network dated between January 1, 2015, and December 31, 2015. The alternative method decision letter/memo number, the reference method affected, sources allowed to use this alternative, and the modification or alternative method allowed are summarized in Table 1 of this notice. Please refer to the complete copies of these approval documents available at www.epa.gov/ttn/emc/approalt.html, as Table 1 serves only as a brief summary of the broadly applicable alternative test methods.

If you are aware of reasons why a particular alternative test method approval that we issued should not be broadly applicable or that its use should in some way be limited, we request that you make us aware of the reasons in writing, and we will revisit the broad approval. Any objection to a broadly applicable alternative test method, as well as the resolution of that objection, will be announced at www.epa.gov/ttn/emc/approalt.html and in the subsequent Federal Register notice. If we decide to retract a broadly applicable test method, we would continue to grant case-by-case approvals, as appropriate, and would (as states, local and tribal agencies and the EPA Regional offices should) consider the need for an appropriate transition period for users either to request case-by-case approval or to transition to an approved method.

Dated: January 19, 2016.
Stephen D. Page,
Director, Office of Air Quality Planning and Standards.

Table 1—Approved Alternative Test Methods and Modifications to Test Methods Referenced in or Published Under Appendices in 40 CFR Parts 60, 61 and 63 Posted Between January 2015 and December 2015.
Alternative method decision letter/memo No. | As an alternative or modification to . . . | For . . . | You may . . .
ALT-109 | Method 22-Visual Determination of Fugitive Emissions From Material Sources and Smoke Emissions From Flares | Sources subject to 40 CFR parts 60, 61, and 63 | Use digital photographs for specific recordkeeping requirements.
ALT-110 | Method 7—Determination of Nitrogen Oxide Emissions From Stationary Sources | Sources subject to 40 CFR part 60, subpart G, Standards of Performance for Nitric Acid Plants | Use Method 7E-Determination of Nitrogen Oxides Emissions from Stationary Sources (Instrumental Analyzer Procedure) in conjunction with the specific application instructions defined in 40 CFR 60.73a(b)(4).
ALT-111 | Method 5-Determination of Particulate Matter Emissions From Stationary Sources or Method 5B—Determination of Nonsulfuric Acid Particulate Matter Emissions From Stationary Sources | Electric utility steam generating units meeting the criteria referenced in the Agency's approval letter and subject to 40 CFR part 63, subpart UUUUU; 40 CFR part 60, subpart D; and 40 CFR part 60, subpart Da | Use Method 5I to conduct quarterly compliance testing and/or certification and ongoing QA testing of the installed PM CEMS.
ALT-112 | Performance Specification 18-Performance Specifications and Test Procedures for Hydrogen Chloride Continuous Emission Monitoring Systems at Stationary Sources and Procedure 6 | Stationary sources in which hydrogen chloride (HCl) is measured continuously to demonstrate compliance in 40 CFR part 63, subparts LLL, UUUUU, and DDDDD | Include measurement path during calibration drift testing according to the provisions specified in the Agency's approval letter dated September 25, 2015.
ALT-113 | Requirements for performance tests—— | Sources subject to 40 CFR part 60, subpart KKKK, Standards of Performance for Stationary Combustion Turbines | Conduct the initial and subsequent performance tests on turbines at ambient temperatures below 0 °F, provided that you operate the inlet air preheaters such that the turbine inlet air temperature is always maintained above 0 °F.
Source owners or operators should review the specific broadly applicable alternative method approval letter at www.epa.gov/ttn/emc/approalt.html before electing to employ it.

[FR Doc. 2016-02738 Filed 2-9-16; 8:45 am]

BILLING CODE 6560-50-P